FEDERAL COMMUNICATIONS COMMISSION

Public Information Collection(s) Requirement Submitted to OMB for Emergency Review and Approval

August 7, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 12, 2003. If you anticipate that you will be submitting comments, but find it difficult to do so within the period of time allowed by this notice, you should advise the contacts listed below as soon as possible.

ADDRESSES: Direct all comments to Kim A. Johnson, Office of Management and Budget, Room 10236 NEOB, Washington, DC 20503, (202) 395-3562 or via internet at Kim_A._Johnson@omb.eop.gov, and Les Smith, Federal Communications Commission, Room 1-A804, 445 12th Street, SW., Washington, DC 20554 or via internet to Leslie.Smith@fcc.gov.

FOR FURTHER INFORMATION CONTACT: For additional information or copies of the information collections contact Les Smith at 202-418-0217 or via internet at Leslie.Smith@fcc.gov.

SUPPLEMENTARY INFORMATION: The Commission has requested emergency OMB review of this collection with an approval by August 1, 2003.

OMB Control Number: 3060-XXXX.

Type of Review: New collection.

Title: Broadcast Ownership Rules, R&O in MB Docket No. 02-277 and MM Docket Nos. 02-235, 02-327, and 00-244.

Form Number: N/A.

Respondents: Business or other for-profit entities.

Number of Respondents: 12.

Estimated Time per Response: 2 to 10 hours.

Frequency of Response: One-time reporting requirement.

Total Annual Burden: 12 hours.

Total Annual Cost: None.

Needs and Uses: On June 2, 2003, the Commission adopted a Report and Order and Notice of Proposed Rulemaking (R&O and NPRM) In the Matter of 2002 Biennial Regulatory Review—Review of the Commission's Broadcast Ownership Rules and Other Rules Adopted Pursuant to Section 202 of the Telecommunications Act of 1996, MB Docket No. 02-277, Cross-Ownership of Broadcast Stations and Newspapers, MM Docket No. 01-235, Rules and Policies Concerning Multiple Ownership of Radio Broadcast Stations in Local Markets, MM Docket No. 01-317, Definition of Radio Markets, MM Docket No. 00-244, and Definition of Radio Markets for Areas Not Located in an Arbitron Survey Area, MB Docket No. 03-130, FCC 03-127, released July 2, 2003. The R&O, accompanied by the NPRM in MB Docket 03-130, arise from our proceeding, in compliance with Section 202(h) of the Telecommunications Act of 1996 (the Act), which requires that the Commission review its broadcast ownership rules every two years. Generally speaking, the actions adopted in the R&O eliminate or relax regulations on licensees. The actions will modify or eliminate some PRA burdens and also add new showings to assist the Commission in determining that licensees remain in compliance with our rules and policies. The NPRM invites comment on an aspect of the revised market definition for the local radio ownership rule. The R&O contains several one-time reporting requirements which are outside of form collections, affecting licensees with: temporary waivers, conditional waivers, pending waiver requests, extensions of waivers, or requests for permanent waivers. These reporting requirements were adopted to ensure compliance with the new broadcast ownership rules and to ensure the rules' effectiveness.

OMB Control Number: 3060-0031.

Type of Review: Revision of a currently approved collection.

Title: Application for Consent to Assignment of Broadcast Station Construction Permit or License, FCC Form 314.

Form Number: FCC 314.

Respondents: Business or other for-profit entities; Not-for-profit institution.

Number of Respondents: 1,825.

Estimated Time per Response: 1 to 2 hours.

Frequency of Response: On occasion reporting requirements; Third party disclosure.

Total Annual Burden: 3,800 hours.

Total Annual Cost: $15,572,081.25.

Needs and Uses: FCC Form 314 and the applicable exhibits/explanations are required to be filed when applying for consent for assignment of an AM, FM or TV broadcast station construction permit or license, along with applicable exhibits and explanations. In addition, the applicant must notify the Commission when an approval assignment of a broadcast station construction permit or license has been consummated. Specific to this collection of information approved under OMB control number 3060-0031, and in accordance with paragraph 498 of the R&O, the Commission will require all applicants to submit an exhibit demonstrating compliance with the Commission's multiple ownership rules and cross-media limits, or supporting an exemption from, or waiver of, 47 CFR 73.3555. With respect to radio station assignment applications, we will require parties to show compliance with the local radio ownership rule using either the interim contour-overlap methodology previously called for in FCC Form 314, or the newly adopted geographic-based Arbitron Metro methodology. Under our modified rules, Joint Sales Agreements (JSAs) will be attributable. A JSA is defined as an agreement with a licensee of a brokered station that authorizes the broker to sell advertising time for the brokered station in return for a fee paid to the licensee. Parties with attributable radio JSAs at the time of filing an FCC Form 314 will now be required to file a copy of the JSA as part of the application. With respect to pending radio station assignment applications, the parties are required to amend their applications by submitting attributable JSAs. In addition, parties with existing attributable JSAs in Arbitron Metro markets will be required to file a copy of the JSA within 60 days of the effective date of the R&O. For JSAs involving radio stations located outside of Arbitron Metros, we will require such JSAs to be filed within 60 days of the effective date of our decision in Docket 03-130, as mentioned above, unless a different date is announced in that decision. With respect to television station assignment applications, the parties will, for the first time, be required to submit an exhibit identifying the relevant Designated Market Area (DMA) as measured by Nielson Research, the number of commercial and noncommercial education stations in the DMA, and the market rankings of the top-four commercial television stations. Radio and television applicants will now also be required to submit as part of FCC Form 314 a copy of any attributable time brokerage agreement (“TBA”) (see 47 CFR 73.3613 for definition) pursuant to which the assignee will supply programming to the station(s) subject to the application or with any other station in the same market as the station(s) subject to the application. 47 CFR 73.3613 already required the filing of an TBA within 30 days of execution. On June 2, 2003, the Commission announced by Public Notice, DA 03-1877, that applicants with long-form assignment or transfer of control applications (FCC Form 314 or 315) or with modification applications (FCC Form 301) that were pending as of adoption date of the R&O may amend those applications by submitting new multiple ownership showings to demonstrate compliance with the new rules. Applicants may file such amendments once notice has been published by the Commission in the Federal Register that OMB has approved the information collection requirements contained in such amendments. Applicants may also submit a complete and adequate showing supporting a waiver of, or exemption from, the new rules. The Commission has established a freeze on the filing of all commercial radio and television assignment applications that require the use of FCC Form 314. The freeze will be in effect starting with the R&O's adoption date until notice has been published by the Commission in the Federal Register that OMB has approved the revised FCC Forms 314. Upon such publication, parties may file new applications, but only if they demonstrate compliance with the new multiple ownership rules adopted in the R&O, or submit complete and adequate showings that a waiver of the new rules is warranted.

OMB Control Number: 3060-0032.

Type of Review: Revision of a currently approved collection.

Title: Application for Consent to Transfer Control of Entity Holding Broadcast Station Construction Permit or License, FCC Form 315.

Form Number: FCC 315.

Respondents: Business or other for-profit entities; Not-for-profit institutions.

Number of Respondents: 1,825.

Estimated Time per Response: 1 to 2 hours.

Frequency of Response: On occasion reporting requirements; third party disclosure.

Total Annual Burden: 3,800 hours.

Total Annual Cost: $15,572,081.25.

Needs and Uses: FCC Form 315 and applicable exhibits/explanations are required to be filed when applying for transfer of control of an entity holding an AM, FM or TV broadcast station construction permit or license, along with applicable exhibits and explanations. In addition, the applicant must notify the Commission when an approved transfer of control of a broadcast station construction permit or license has been consummated. Specific to this collection of information approved under OMB control number 3060-0032, and in accordance with paragraph 498 of the R&O, the Commission will require all applicants to submit an exhibit demonstrating compliance with the Commission's multiple ownership rules and cross-media limits, or supporting an exemption from, or waiver of, 47 CFR 73.3555. With respect to radio station transfer of control applications, we will require parties to show compliance with the local radio ownership rule using either the interim contour-overlap methodology previously called for in FCC Form 315, or the newly adopted geographic-based Arbitron Metro methodology. Under our modified rules, Joint Sales Agreements (JSAs) will be attributable. Parties with attributable radio JSAs at the time of filing an FCC Form 315 will now be required to file a copy of the JSA with the application. With respect to pending radio station transfer of control applications, the parties are required to amend their applications by submitting attributable JSAs. In addition, parties with existing attributable JSAs in Arbitron Metro markets will be required to file a copy of the JSA within 60 days of the effective date of the R&O. For JSAs involving radio stations located outside of Arbitron Metros, we will require such JSAs to be filed within 60 days of the effective date of our decision in Docket 03-130, as mentioned above, unless a different date is announced in that decision. With respect to television station transfer of control applications, the parties will, for the first time, be required to submit an exhibit identifying the relevant Designated Market Area (DMA) as measured by Nielson Research, the number of commercial and noncommercial education stations in the DMA, and the market rankings of the top-four commercial television stations. Radio and television applicants will now also be required to submit as part of FCC Form 315 a copy of any attributable time brokerage agreement (TBA) (see 47 CFR 73.3613 for definition) pursuant to which the transferee will supply programming to the station(s) subject to the application, or with any other station in the same market as the station(s) subject to the application 47 CFR 73.3613 already required the filing of an TBA within 30 days of execution. On June 2, 2003, the Commission announced by Public Notice, DA 03-1877, that applicants with long-form assignment or transfer of control applications (FCC Form 314 or 315) or with modification applications (FCC Form 301) that were pending as of adoption date of the R&O may amend those applications by submitting new multiple ownership showings to demonstrate compliance with the new rules. Applicants may file such amendments once notice has been published by the Commission in the Federal Register that OMB has approved the information collection requirements contained in such amendments. Applicants may also submit a complete and adequate showing supporting a waiver of, or exemption from, the new rules. The Commission has established a freeze on the filing of all commercial radio and television transfer of control applications that require the use of FCC Form 315. The freeze will be in effect starting with the R&O's adoption date until notice has been published by the Commission in the Federal Register that OMB has approved the revised FCC Form 315. Upon such publication, parties may file new applications, but only if they demonstrate compliance with the new multiple ownership rules adopted in the R&O, or submit complete and adequate showings that a waiver of the new rules is warranted.

OMB Control Number: 3060-0027.

Type of Review: Revision of a currently approved collection.

Title: Application for Construction Permit for Commercial Broadcast Station, FCC Form 301.

Form Number: FCC 301.

Respondents: Business or other for-profit entities; Not-for-profit institutions.

Number of Respondents: 2,450.

Estimated Time per Response: 2 to 4 hours.

Frequency of Response: On occasion requirements; Third party disclosure.

Total Annual Burden: 5,620 hours.

Total Annual Cost: $28,971,675.00.

Needs and Uses: FCC Form 301 is used to apply for authority to construct a new commercial AM, FM, or TV broadcast station, or to make changes in existing facilities of such a station. In addition, FM licensees or permittees may request, by application on FCC Form 301, upgrades on adjacent and co-channels, modifications to adjacent channels of the same class and downgrades to adjacent channels without first submitting a petition for rulemaking. To receive authorization for commencement of Digital Television (“DTV”) operation, commercial broadcast licensees must file FCC Form 301 for a construction permit. This application may be filed anytime after receiving the initial DTV allotment but must be filed before mid-point in a particular applicant's required construction period. The Commission will consider these applications as minor changes in facilities. Applications will not have to supply full legal or financial qualification information.

Specific to this collection of information approved under OMB control number 3060-0027, the Commission will require all applicants to submit an exhibit demonstrating compliance with the Commission's multiple ownership rules and cross-media limits, or supporting an exemption from, or waiver of, 47 CFR 73.3555. With respect to radio station construction permit applications, we will require parties to show compliance with the local radio ownership rule using either the interim contour-overlap methodology previously called for in FCC Form 301, or the newly adopted geographic-based Arbitron Metro methodology. Under our modified rules Joint Sales Agreements (JSAs) will be attributable. Parties with attributable radio JSAs at the time of filing an FCC Form 301 will now be required to file a copy of the JSA as part of the application. With respect to television station construction permit applications, the parties will, for the first time, be required to submit an exhibit identifying the relevant Designated Market Area (DMA) as measured by Nielson Research, the number of commercial and noncommercial education stations in the DMA, and the market rankings of the top-four commercial television stations. Radio and television applicants are also required to submit a part of FCC Form 301 a copy of any attributable time brokerage agreement (see 47 CFR 73.3613 for definition) pursuant to which the applicant will supply programming to the station(s) subject to the application or with any other station in the same market as the station(s) subject to the application. On June 2, 2003, the Commission announced by Public Notice, DA 03-1877, that applicants with FCC Form 301 applications pending as of the adoption date of the R&O may amend those applications by submitting new multiple ownership showings to demonstrate compliance with the new rules. Applicants may file such amendments once notice has been published by the Commission in the Federal Register that OMB has approved the information collection requirements contained in such amendments.

Applicants may also submit a complete and adequate showing supporting a waiver of, or exemption from, the new rules.

Federal Communications Commission.
William F. Caton,
Deputy Secretary.

[FR Doc. 03-20537 Filed 8-12-03; 8:45 am]

BILLING CODE 6712-01-M